ENVIRONMENTAL PROTECTION AGENCY

[EPA-HQ-OEI-2017-0380; FRL-10022-20-OMS]

Information Collection Request Submitted to OMB for Review and Approval; Comment Request; Generic Clearance for the Collection of Qualitative Feedback on Agency Service Delivery (Renewal)

AGENCY: Environmental Protection Agency (EPA).

ACTION: Notice.

SUMMARY: The Environmental Protection Agency (EPA) has submitted an information collection request (ICR), Generic Clearance for the Collection of Qualitative Feedback on Agency Service Delivery (EPA ICR Number 2434.99, OMB Control Number 2010-0042) to the Office of Management and Budget (OMB) for review and approval in accordance with the Paperwork Reduction Act. This is a proposed extension of the ICR, which is currently approved through March 31, 2021. Public comments were previously requested via the Federal Register on July 16, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 26, 2021.

ADDRESSES: Submit your comments to EPA, referencing Docket ID No. EPA-HQ-OEI-2017-0380, online using www.regulations.gov (our preferred method), by email to docket_oms@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Mark Purdy, Office of Mission Support, Regulatory Support Division, 2822T, Environmental Protection Agency, 1200 Pennsylvania Ave. NW, Washington, DC 20460; telephone number: 202-566-2792; email address: mpurdy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The information collection activity provides the Agency with an opportunity to efficiently engage its customers and stakeholders by gathering qualitative information about their interaction with Agency. Getting such feedback in a timely manner is critical if the Agency is to know how and where it should focus while seeking to improve, or expand upon, its products and services.

The Agency will submit a collection request for approval under this generic clearance only if the collections are: Voluntary; low burden and low-cost for both the respondents and the Federal Government; noncontroversial; targeted to respondents who have experience with the program or may have experience with the program in the near future; and abstain from collecting personally identifiable information (PII) to the greatest extent possible. Information gathered will be used internally for general service improvement and program management purposes and released publicly only in an anonymized or aggregated fashion. It will not be used in statistical analysis intended to yield results that can be generalized to the population of study nor will it be used to substantially inform influential policy decisions.

Form Numbers: None.

Respondents/affected entities: Individuals and Households; Businesses and Organizations; State, Local or Tribal Government.

Respondent's obligation to respond: Voluntary.

Estimated number of respondents: 180,000 (total).

Frequency of response: Once per request.

Total estimated burden: 45,000 hours (total). Burden is defined at 5 CFR 1320.03(b).

Total estimated cost: There are no annualized capital or operation & maintenance costs.

Changes in the estimates: There is an increase of 15,000 hours in the total estimated respondent burden compared with the ICR currently approved by OMB. This requested increase is made in anticipation of continued growth in the Agency's use this collection to survey the public on its delivery of services.

Courtney Kerwin,
Director, Regulatory Support Division.

[FR Doc. 2021-06312 Filed 3-25-21; 8:45 am]

BILLING CODE 6560-50-P